COMMODITY FUTURES TRADING COMMISSION

Notice of Renewal of the Global Markets Advisory Committee

SUMMARY: The Commodity Futures Trading Commission has determined to renew the charter of its Global Markets Advisory Committee. As required by sections 9(a)(2) and 14(a)(2)(A) of the Federal Advisory Committee Act, 5 U.S.C. app 2, sections 9(a)(2) and 14(a)(2)(A), and 41 CFR 101-6.1007 and 101-6.1029, the Commission has consulted with the Committee Management Secretariat of the General Services Administration. The Commission certifies that the renewal of this advisory committee is necessary and is in the public interest in connection with the performance of duties imposed on the Commission by the Commodity Exchange Act, 7 U.S.C. 1, et seq., as amended. This notice is published pursuant to section 9(a)(2) of the Federal Advisory Committee Act, 5 U.S.C. app 2, section 9(a)(2), 41 CFR 101-6.1015.

FOR FURTHER INFORMATION CONTACT: Martin B. White, Committee Management Officer, at 202-418-5129. Written comments should be submitted to Eileen A. Donovan, Acting Secretary, Commodity Futures Trading Commission, Three Lafayette Centre, 1155 21st Street, NW., Washington, DC 20581.

SUPPLEMENTARY INFORMATION: The purpose of the Global Markets Advisory Committee is to provide the Commission with input on international market issues that affect the integrity and competitiveness of U.S. futures markets. The advisory committee also serves as a channel for communication between the Commission and U.S. and foreign markets, firms and end users involved in and affected by market globalization.

Contemporaneously with publication of this notice in the Federal Register, a copy of the renewal charter of the Global Markets Advisory Committee will be filed with the Commission, the Senate Committee on Agriculture, Nutrition and Forestry and the House Committee on Agriculture. A copy of the reinstated charter will be furnished to the Library of Congress and to the Committee Management Secretariat and will be posted on the Commission's Web site at http://www.cftc.gov.

Issued in Washington, DC, on July 7, 2006, by the Commission.
Eileen A. Donovan,
Acting Secretary of the Commission.

[FR Doc. 06-6190 Filed 7-12-06; 8:45 am]

BILLING CODE 6351-01-M